DEPARTMENT OF COMMERCE

International Trade Administration

[A-533-820]

Certain Hot-Rolled Carbon Steel Flat Products From India: Notice of Final Results of Antidumping Duty Administrative Review

AGENCY: Import Administration, International Trade Administration, Department of Commerce.

SUMMARY: On December 31, 2007, the Department of Commerce (the Department) published the preliminary results of the antidumping duty administrative review for certain hot-rolled carbon steel flat products from India. See Certain Hot-Rolled Carbon Steel Flat Products From India: Notice of Preliminary Results of Antidumping Duty Administrative Review, 72 FR 74267 (December 31, 2007) (Preliminary Results). This review covers four ¹ manufacturers and exporters (respondents) of the subject merchandise: Ispat, Tata, JSW, and Essar. The period of review (POR) is December 1, 2005 through November 30, 2006.

¹ Ispat Industries Limited (Ispat), Essar Steel Limited (Essar), JSW Steel Limited (JSW), and Tata Steel Limited (Tata Steel) (collectively, respondents).

Based on our analysis of the comments received, we have made changes to the margin calculations. Therefore, the final results differ from the preliminary results. The final weighted-average dumping margins for the reviewed firms are listed below in the section entitled “Final Results of Review.”

EFFECTIVE DATE: June 5, 2008.

FOR FURTHER INFORMATION CONTACT: Christopher Hargett (Ispat), Joy Zhang (Tata Steel), Stephanie Moore (JSW) or Victoria Cho (Essar), AD/CVD Operations, Office 3, Import Administration, International Trade Administration, U.S. Department of Commerce, 14th Street and Constitution Avenue NW., Washington, DC 20230; telephone: (202) 482-4161, (202) 482-1168, (202) 482-3692, and (202) 482-5075, respectively.

SUPPLEMENTARY INFORMATION:

Background

On December 31, 2007, the Department published the Preliminary Results. Since the Preliminary Results, the following events have occurred. From January 28 through February 1, 2008, we verified the sales questionnaire responses of Tata, JSW and Ispat. From February 4 through 8, 2008, we verified Ispat's cost questionnaire response. On March 12 and 13, 2008 the Department issued its verification reports. We provided the interested parties an opportunity to comment on the Preliminary Results and the Department's verification findings.

On April 4, 2008, United States Steel Corporation (U.S. Steel) and Nucor Corporation (Nucor) (collectively, petitioners) filed case briefs. On April 4, 2008, Essar and JSW filed case briefs. On April 11, 2008, petitioners filed rebuttal briefs. Also, on April 11, 2008, Ispat, Essar, JSW, and Tata filed rebuttal briefs.

On April 7, 2008, the Department published the notice of extension of final results of the antidumping administrative review of certain hot-rolled carbon steel flat products from India, extending the deadline for these final results to no later than May 14, 2008. See Certain Hot-Rolled Carbon Steel Flat Products From India: Extension of Time Limits for the Final Results of Antidumping Duty Administrative Review, 73 FR 18753 (April 7, 2008). The Department published a second notice extending the deadline for these final results to no later than May 30, 2008. See Certain Hot-Rolled Carbon Steel Flat Products From India: Extension of Time Limits for the Final Results of Antidumping Duty Administrative Review, 73 FR 28100 (May 15, 2008).

Scope of the Order

The merchandise subject to this order is hot-rolled carbon steel products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of this order.

Specifically included in the scope of this order are vacuum-degassed, fully stabilized (commonly referred to as interstitial-free (IF)) steels, high-strength low-alloy (HSLA) steels, and the substrate for motor lamination steels. IF steels are recognized as low-carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of this order, regardless of definitions in the Harmonized Tariff Schedule of the United States (HTS), are products in which: (i) iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled carbon steel products in which at least one of the chemical elements exceeds those listed above (including, e.g., American Society for Testing and Materials (ASTM) specifications A543, A387, A514, A517, A506)).

• Society of Automotive Engineers (SAE)/American Iron & Steel Institute (AISI) grades of series 2300 and higher.

• Ball bearings steels, as defined in the HTS.

• Tool steels, as defined in the HTS.

• Silico-manganese (as defined in the HTS) or silicon electrical steel with a silicon level exceeding 2.25 percent.

• ASTM specifications A710 and A736.

• United States Steel (USS) Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to this order is currently classifiable in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel covered by this order, including: vacuum-degassed fully stabilized; high-strength low-alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and customs purposes, the Department's written description of the merchandise subject to this order is dispositive.

Affiliation

As stated in the Preliminary Results, Nucor alleged that JSW is affiliated with the O.P. Jindal Group, pursuant to section 771(33) of the Tariff Act of 1930, as amended (the Act), and that they should be collapsed. The Department preliminarily determined that JSW is affiliated with the O.P. Jindal Group under sections 771(33)(A) and (F) of the Act, as they are under the common control of a family group. See Preliminary Results, at 74268. However, the evidence on the record did not indicate that the other companies in the O.P. Jindal Group have production facilities which would not require substantial retooling for producing similar or identical products. Thus, we did not find that the criteria for collapsing JSW into the O.P. Jindal Group had been satisfied.

We continue to find that JSW is affiliated with the O.P. Jindal Group, but there still is no evidence on the record that indicates that any of the other companies in the group produces the subject merchandise at its own facility or could produce the merchandise without substantially retooling their facilities, or that any other company in the group besides JSW sells the subject merchandise.

Regarding JSW's affiliation with another steel company as alleged by Nucor, the Department preliminarily determined that the companies are not affiliated. See Preliminary Results, at 74269. Although the Department finds that there is a long-standing business relationship between these entities, the Department does not find that control exists where one person is legally or operationally in a position to exercise restraint or direction over the other person and the relationship has the potential to impact decisions concerning the production, pricing, or cost of the subject merchandise or foreign like product. See section 771(33) of the Act and 19 CFR 351.102(b). Therefore, we continue to find that there is no affiliation between JSW and the other steel company.

Analysis of Comments Received

All issues raised in the case and rebuttal briefs by parties to this administrative review are addressed in the accompanying Issues and Decision Memorandum, which is hereby adopted by this notice. A list of the issues which parties have raised, and to which we have responded in the Issues and Decision Memorandum, is attached to this notice as an Appendix. In addition, a complete version of the Issues and Decision Memorandum can be accessed directly on the Internet at http://ia.ita.doc.gov/frn. The paper copy and electronic version of the Issues and Decision Memorandum are identical in content.

Final Results of Review:

We determine that the following weighted-average margins exist:

Producer/manufacturer | Weighted-average margin
Ispat | 0.00%.
Tata Steel | 0.09% (de minimis).
JSW | 0.24% (de minimis).
Essar | 5.22%.

Assessment Rates

The Department shall determine, and U.S. Customs and Border Protection (CBP) shall assess, antidumping duties on all appropriate entries. In accordance with 19 CFR 351.212(b)(1), where the rate is above de minimis, we will issue importer-specific assessment instructions for entries of subject merchandise during the POR. The Department will issue appropriate assessment instructions directly to CBP 15 days after publication of the final results of review.

The Department clarified its “automatic assessment” regulation on May 6, 2003 (68 FR 23954). This clarification will apply to entries of subject merchandise during the POR produced by Tata, JSW, Ispat and Essar for which they did not know their merchandise was destined for the United States. In such instances, we will instruct CBP to liquidate any unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of this notice of final results of administrative review for all shipments of hot-rolled carbon steel flat products from India entered, or withdrawn from warehouse, for consumption on or after the publication date of the final results, as provided by sections 751(a)(1) and (a)(2)(C) of the Act: (1) for companies covered by this review, the cash deposit rate will be the rate listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the manufacturer has its own rate, the cash deposit rate will be 38.72 percent, the all-others rate published in the Notice of Amended Final Antidumping Duty Determination of Sales at Less Than Fair Value and Antidumping Duty Order: Certain Hot-Rolled Carbon Steel Flat Products from India, 66 FR 60194 (December 3, 2001).² These deposit requirements shall remain in effect until further notice.

² The all-others cash deposit rate, applied by CBP, is reduced to account for the export subsidy rate found in the countervailing duty investigation. The adjusted all-others rate is 23.87 percent.

Notification to Importers

This notice serves as a final reminder to importers of their responsibility under 19 CFR 351.402(f) to file a certificate regarding the reimbursement of antidumping and/or countervailing duties prior to liquidation of the relevant entries during this period of review. Failure to comply with this requirement could result in the Department's presumption that reimbursement of antidumping and/or countervailing duties occurred and the subsequent assessment of doubled antidumping and or countervailing duties.

Notification Regarding APOs

This notice also serves as a reminder to parties subject to administrative protective orders (APO) of their responsibility concerning the disposition of proprietary information disclosed under APO as explained in the APO itself. See 19 CFR 351.305(a)(3). Timely written notification of the return/destruction of APO materials or conversion to judicial protective order is hereby requested. Failure to comply with the regulations and terms of an APO is a sanctionable violation.

We are publishing these final results of administrative review and notice in accordance with sections 751(a)(1) and 777(i)(1) of the Act.

Dated: May 30, 2008.
David M. Spooner,
Assistant Secretary for Import Administration.

APPENDIX I

List of Comments in the Accompanying Issues and Decision Memorandum

Tata Steel Limited

Comment 1: Application of Partial Adverse Facts Available (AFA) to Tata's Reported Costs

Comment 2: Sales of Overruns in the Home Market

Comment 3: U.S. Credit Expense Calculations

Comment 4: Procurement Expenses

Comment 5: Deduction of DINDIRSU from CEP

Comment 6: Deduction of CEP Profit

Comment 7: Home Market Indirect Selling Expense Calculations

JSW Steel

Comment 8: Home Market Deduction of Taxes

Comment 9: Deduction of Antidumping and Countervailing Duty Deposits

Comment 10: Application of AFA for JSW

Comment 11: Finding Affiliation Based on AFA for JSW

Comment 12: Collapsing of the O.P. Jindal Group

Ispat Steel Limited

Comment 13: Date of Sale

Comment 14: Freight Charges in Home Market Sales

Comment 15: Treatment of Inland Freight

Comment 16: Calculation of Indirect Selling Expense

Comment 17: Calculation of General and Administrative Expenses

Essar Steel Co. Ltd.

Comment 18: Duty Drawback

Comment 19: Level of Trade

Comment 20: Countervailing Duty Offset

Comment 21: Treatment U.S. Date of Sale

Comment 22: Treatment of U.S. Credit Expense

Comment 23: Treatment of Sales Tax

Comment 24: U.S. Indirect Selling Expenses

Comment 25: DINDIRSU for CEP Sales

Comment 26: CEP Offset

Comment 27: Treatment of Rebates

Comment 28: Home Market Indirect Selling Expenses

Comment 29: Treatment of Commission

[FR Doc. E8-12603 Filed 6-4-08; 8:45 am]

BILLING CODE 3510-DS-P